DEPARTMENT OF DEFENSE

Department of the Air Force

Public ICWG Announcement—2013

This notice informs the public that the Global Positioning Systems (GPS) Directorate will be hosting a Public Interface Control Working Group (ICWG) meeting for the NAVSTAR GPS public signals in space (SiS) documents and ICD-GPS-870; IS-GPS-200 (Navigation User Interfaces), IS-GPS-705 (User Segment L5 Interfaces), IS-GPS-800 (User Segment L1C Interface), and the Navstar Next Generation GPS Operational Control Segment (OCX) to User Support Community Interfaces (ICD-GPS-870). Dates and times can be found below.

The purpose of this meeting will be twofold: (1) To resolve the comments against the public signals-in-space (SiS) documents with respect to the six issues outlined below, and (2) to collect issues/comments outside the scope of the issues outlined below for analysis and possible integration into the following release. The ICWG is open to the general public. For those who would like to attend and participate in this ICWG meeting, we request that you register no later than August 6, 2013. Please send the registration to mark.marquez.2.ctr@us.af.mil or SMCGPER@us.af.mil and provide your name, organization, telephone number, address, and country of citizenship.

Please note that the Directorate's primary focus will be the disposition of the comments against the following GPS related topics:

1. L1C Week Number of Operation (WNOP)

2. Removal of Obsolete Information from the Public Signals-in-Space (SiS) Documents

3. CNAV Reference Times

4. PRN Mission Assignments 211-1023

5. CNAV Broadcast Intervals

6. Document Baseline for User Community & Zero AOD User Interfaces

All comments must be submitted in Comments Resolution Matrix (CRM) form. These forms along with the Was/Is Matrix, current versions of the documents, and the official meeting notice will be posted at: http://www.gps.gov/technical/icwg/.

Comments outside the scope of the above issues will be collected, catalogued, and discussed during the public ICWG as potential inclusions to the version following this release. If accepted, these changes will be processed through the formal Directorate change process for IS-GPS-200, IS-GPS-705, IS-GPS-800, and ICD-GPS-870.

There will also be a special topic that will be discussed at the Public ICWG.

1. Adjacent Band Compatibility (ABC) Study Group Kickoff

Please provide them in the CRM form and submit to the SMC/GPER mailbox at SMCGPER@us.af.mil or to Mark Marquez at mark.marquez.2.ctr@us.af.mil by August 7, 2013.

Public Interface Control Working Group Meeting (ICWG)

Date(s) and Times: 24-25 Sep 2013 (0800-1700) (Pacific Daylight Time P.D.T)

Dial-in Information and Location: 1-800-366-7242, Code: 1528652

ADDRESSES: SAIC Facility 300 North Sepulveda Blvd., 2nd Floor, Conference Room 2060 El Segundo CA 90245.

Identification will be required at the entrance of the SAIC facility (Passport, state ID, or Federal ID) SAIC Facility phone number: 310-416-8300.

Bao-Anh Trinh,
Air Force Federal Register Liaison Officer.

[FR Doc. 2013-18358 Filed 7-30-13; 8:45 am]

BILLING CODE 5001-10-P